COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List services to be furnished by nonprofit agencies employing persons who are blind or have other severe disabilities, and deletes from the Procurement List products and a service previously furnished by such agencies.

EFFECTIVE DATE: January 30, 2005.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, Telephone: (703) 603-7740, Fax: (703) 603-0655, or e-mail SKennerly@jwod.gov.

SUPPLEMENTARY INFORMATION:

Additions

On October 15, and October 29, 2004, the Committee for Purchase From People Who Are Blind or Severely Disabled published notice (69 FR 61202 and 63139) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Base Supply Center, Building 1304 and 1305, Fort Rucker, Alabama.

NPA: Alabama Industries for the Blind, Talladega, Alabama.

Contracting Activity: Department of the Army, Directorate of Contracting, Fort Rucker, Alabama.

Service Type/Location: Custodial Services,

E. Ross Adair Federal Building and U.S. Courthouse, 1300 S. Harrison Street, Fort Wayne, Indiana.

NPA: The Arc of Northeast Indiana, Inc., Fort Wayne, Indiana.

Contracting Activity: GSA, PBS—5P, Chicago, Illinois.

Deletions

On October 29, and November 5, 2004, the Committee for Purchase From People Who Are Blind or Severely Disabled published notice (69 FR 63139 and 64562) of proposed deletions to the Procurement List.

After consideration of the relevant matter presented, the Committee has determined that the products and service listed below are no longer suitable for procurement by the Federal Government under 41 U.S.C. 46-48c and 41 CFR 51-2.4.

Regulatory Flexibility Act Certification

I certify that the following action will not have a significant impact on a substantial number of small entities.

The major factors considered for this certification were:

1. The action may result in additional reporting, recordkeeping or other compliance requirements for small entities.

2. The action may result in authorizing small entities to furnish the products and service to the Government.

3. There are no known regulatory alternatives which would accomplish the objectives of the Javits-Wagner-O'Day Act (41 U.S.C. 46-48c) in connection with the products and service deleted from the Procurement List.

End of Certification

Accordingly, the following products and service are deleted from the Procurement List:

Products

Product/NSN: Cloth, Abrasive,

5350-00-187-6286,

5350-00-187-7986,

5350-00-192-9325.

NPA: Louisiana Association for the Blind, Shreveport, Louisiana.

Contracting Activity: GSA, Southwest Supply Center, Fort Worth, Texas.

Product/NSN: Cover Assembly, Pitot, 1560-01-208-7831.

NPA: Huntsville Rehabilitation Foundation, Huntsville, Alabama.

Contracting Activity: U.S. Army Missile Command, Redstone Arsenal, Alabama.

Product/NSN: Cutlery, Plastic, Medium Weight,

7340-00-NIB-0009,

7340-00-NIB-0010,

7340-00-NIB-0011,

7340-00-NIB-0012,

7340-00-NIB-0015,

7340-00-NIB-0016,

7340-00-NIB-0017.

NPA: L.C. Industries For The Blind, Inc., Durham, North Carolina.

Contracting Activity: Navy Exchange Service Command (NEXCOM), Virginia Beach, Virginia.

Product/NSN: Refill, Ballpoint Pen, 7510-00-754-2691 (Red Fine Point).

NPA: Industries for the Blind, Inc., Milwaukee, Wisconsin.

Contracting Activity: Office Supplies & Paper Products Acquisition Center, New York, New York.

Service

Service Type/Location: Janitorial/Custodial,

DLA Gadsden Depot, Gadsden, Alabama.

NPA: None currently authorized.

Contracting Activity: Department of Defense.

Patrick Rowe,
Deputy Executive Director.

[FR Doc. 04-28622 Filed 12-29-04; 8:45 am]

BILLING CODE 6353-01-P